DEPARTMENT OF LABOR

Occupational Safety and Health Administration

[Docket No. S-777A]

Announcement of Public Forums on Ergonomics

AGENCY: Occupational Safety and Health Administration (OSHA), Department of Labor.

ACTION: Scheduling of public forums; request for comments.

SUMMARY: The Department of Labor is scheduling several public forums around the country to discuss possible approaches to addressing ergonomic hazards in the workplace. Interested persons may submit written comments in response to the three specific questions raised in this notice, and they are invited to speak on these questions at the public forums.

DATES: Written comments. Written comments must be postmarked by August 3, 2001. If you are submitting documentary evidence that has been previously submitted in the OSHA ergonomics rulemaking docket (Docket S-777), please reference the Exhibit Number rather than providing an additional copy.

Forums. The forum in the Washington, DC, area is scheduled to begin at 9:30 a.m., July 16, 2001, and will run for one and one-half days. It will be followed by a one-day forum on July 20, 2001, in Chicago, Illinois and a one-day forum on July 24, 2001, in California. The location of the Washington, DC, area forum and the time and location for the regional forums will be announced later in the Federal Register.

Notice of intention to speak at the forums. Written intention to speak at the forums must be postmarked by June 29, 2001. Facsimile or electronic notices of intention to speak at the forums must be received by June 29, 2001. If possible, please include an e-mail address or fax number in your notice, so we may contact you about scheduling. When submitting a notice of intention to speak, please indicate whether you intend to speak at the forum in Washington, DC, Chicago, Illinois, or California. In addition, if you are requesting more than 10 minutes for your presentation, please indicate the amount of time that you are requesting and the questions you intend to address. The amount of time allotted to each speaker will depend on the number of persons who wish to speak at each location.

ADDRESSES: Written comments and notices of intention to speak at a forum may be submitted by mail, facsimile, or electronic means:

Written comments:

Mail: Submit three copies of written comments to: OSHA Docket Office, Docket No. S-777A, U.S. Department of Labor, 200 Constitution Avenue, NW., Room N-2625, Washington, DC 20210, telephone (202) 693-2350.

Facsimile: If your written comments are 10 pages or fewer, you may fax them to the Docket Office. The OSHA Docket Office fax number is (202) 693-1648.

Electronic: You may submit comments electronically through OSHA's Homepage at www.osha.gov. Please note that you may not attach materials such as studies or journal articles to your electronic comments. If you wish to include such materials, you must submit three copies to the OSHA Docket Office at the address listed above. When submitting such materials to the OSHA Docket Office, you must clearly identify your electronic comments by name, date, and subject, so that we can attach the materials to your electronic comments.

Notice of intention to speak:

Mail: You may submit notices of intention to speak at a forum, by mail, to: Ms. Veneta Chatmon, OSHA Office of Public Affairs, Docket No. S-777A, U.S. Department of Labor, 200 Constitution Avenue, NW., Room N-3647, Washington, DC 20210, telephone: (202) 693-1999.

Facsimile: You may fax your notice of intention to speak at a forum to Ms. Chatmon at (202) 693-1634.

Electronic: You also may electronically submit your notice of intention to speak at a forum through OSHA's Homepage at www.osha.gov.

FOR FURTHER INFORMATION CONTACT: Bonnie Friedman, OSHA Office of Public Affairs, telephone (202) 693-1999, or visit the OSHA Homepage at www.osha.gov.

Prevention: The approach should emphasize the prevention of injuries before they occur.

SUPPLEMENTARY INFORMATION: With this notice, the Department announces the beginning of its initiative to create a new and comprehensive approach to ergonomics that is appropriate to the 21st Century workforce. In testimony before Congress, Secretary of Labor Elaine L. Chao has set forth the following principles that the Department will use to guide its development of this new framework:

Prevention: The approach should, emphasize the prevention of injuries, before they occur.

Sound Science: The approach should be based on the best available science and research.

Incentive Driven: The approach should focus on cooperation between OSHA and employers.

Flexibility: The approach should take account of the varying capabilities and characteristics of different businesses and workers.

Feasibility: Future actions must recognize the costs of compliance to small businesses.

Clarity: Any approach must include short, simple and common sense instructions.

Secretary Chao has met with many representatives from business, labor, and the public health community, as well as with members of Congress, to discuss possible approaches to addressing ergonomics injuries. As a result of those meetings, the Secretary has determined that consensus has not been reached on several very basic questions. In addition, the National Academy of Sciences has issued a new report on ergonomic injuries noting that, “no single strategy is or will be effective for all types of industry.” Before designing a plan to address ergonomics injuries, the Department will hold three public forums to provide members of the public the opportunity to provide additional information on these questions. The Secretary encourages all interested parties, particularly small business owners and employees of small businesses, to participate.

Following the forums, the Department will review the information obtained during this process, along with other information, and develop a comprehensive plan for addressing ergonomics injuries in the workplace. The Secretary intends to identify a course of action in September.

Forum Plans: The forums will consider the three questions listed below.

Question 1: What is an ergonomics injury? The Department of Labor is interested in establishing an accepted definition that the Occupational Safety and Health Administration, employers and their employees can understand and apply.

Question 2: How can the Occupational Safety and Health Administration, employers and employees determine whether an ergonomics injury was caused by work-related activities or non-work-related activities; and, if the ergonomics injury was caused by a combination of the two, what is the appropriate response?

Question 3: What are the most useful and cost-effective types of government involvement to address workplace ergonomics injuries (e.g., rulemaking, guidelines, “best practices,” publications/conferences, technical assistance, consultations, partnerships or combinations of such approaches)? The agency particularly invites comment on the advantages and disadvantages of each approach or combination of approaches.

This notice was prepared under the direction of R. Davis Layne, Acting Assistant Secretary for Occupational Safety and Health. It is issued under sections 4, 6, and 8 of the Occupational Safety and Health Act (29 U.S.C. 653, 655, 657).

Issued at Washington, DC, this 7th day of June, 2001.
R. Davis Layne,
Acting Assistant Secretary of Labor.

[FR Doc. 01-14740 Filed 6-11-01; 8:45 am]

BILLING CODE 4510-26-P